DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the meeting is for the Committee to receive Service specific briefings pertaining to recommendations contained in the 2009 annual report. Also, to review and discuss Service responses relating to assignments and well-being, concerns on units and assignments still closed to women, and challenges of the post-deployment/reintegration of women. Finally, to receive a briefing from the Defense Task Force on Sexual Assault in the Military. The meeting is open to the public, subject to the availability of space.

DATES: December 2-3, 2010, 8:30 a.m.-5 p.m.

ADDRESSES: Residence Inn Marriott, 550 Army Navy Dr., Arlington, VA 22202.

FOR FURTHER INFORMATION CONTACT: MSgt Robert Bowling, USAF, or DACOWITS, 4000 Defense Pentagon, Room 2C548A, Washington, DC 20301-4000. Robert.bowling@osd.mil. Telephone (703) 697-2122. Fax (703) 614-6233.

SUPPLEMENTARY INFORMATION:

Meeting Agenda

Thursday, December 2, 2010 8:30 a.m.-5 p.m.

—Welcome, introductions, and announcements

—Service briefs on DACOWITS 2009 Report

—Briefings from DoD Task Force on Sexual Assault in the Military Services

—Services SME briefs on assignment and well-being inquiries

—Public Forum

Friday, December 3, 2010 8:30 a.m.-5 p.m.

—Welcome, introductions, and announcements

—Discussion and decisions regarding recommendations on assignments and well-being

—Executive session with Military Reps to discuss, craft, and vote on recommendations for the 2010 Report

Interested persons may submit a written statement for consideration by the Defense Department Advisory Committee on Women in the Services. Individuals submitting a written statement must submit their statement to the Point of Contact listed above under the FOR FURTHER INFORMATION CONTACT section NLT 5 p.m., Tuesday, November 30, 2010. If a written statement is not received by Tuesday, November 30, 2010, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services.

If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Wednesday, December 2, 2010 from 4 p.m. to 4:30 p.m. before the full Committee. Number of oral presentations to be made will depend on the number of requests received from members of the public.

Dated: October 26, 2010.
Morgan F. Park,
Alternate OSD Federal Register Liaison Officer, Department of Defense.

[FR Doc. 2010-27713 Filed 11-2-10; 8:45 am]

BILLING CODE 5001-06-P